OVERSEAS PRIVATE INVESTMENT CORPORATION

Sunshine Act Meeting; January 27, 2005 OPIC Annual Public Hearing

OPIC's Sunshine Act notice of its annual public hearing was published in the Federal Register (Volume 70, Number 3, Page 928) on January 5, 2005. No requests were received to provide testimony or submit written statements for the record; therefore, OPIC's annual public hearing scheduled for 2 p.m. on January 19, 2005 has been cancelled.

Contact for Further Information: Information on the hearing cancellation may be obtained from Connie M. Downs at (202) 336-8438, via facsimile at (202) 218-0136, or via e-mail at cdown@opic.gov.

Dated: January 14, 2005.
Connie M. Downs,
OPIC Corporate Secretary.

[FR Doc. 05-1212 Filed 1-18-05; 12:28 pm]

BILLING CODE 3210-01-M